DEPARTMENT OF ENERGY

Federal Energy Regulatory Commission

[Docket No. EC00-94-000]

Midwest Generation, LLC; Notice of Filing

May 24, 2000.

Take notice that on May 19, 2000, Midwest Generation, LLC tendered for filing an application under section 203 of the Federal Power Act for approval of the transfer of transformers and interconnection facilities associated with a 1,538 MW coal-fired electric generating plant and two units of a 1,358 MW coal-fired electric generating plant being financed pursuant to a sale/leaseback arrangement.

Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions and protests should be filed on or before June 19, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

Linwood A. Watson, Jr.,
Acting Secretary.

[FR Doc. 00-14126 Filed 6-5-00; 8:45 am]

BILLING CODE 6717-01-M